DEPARTMENT OF THE INTERIOR

[FWS-R4-ES-2019-N126]; [FVHC98220410150-XXX-FF04H00000]

Deepwater Horizon Oil Spill 2019 Final Supplemental Restoration Plan and Finding of No Significant Impact; Mississippi Trustee Implementation Group

AGENCY: Department of the Interior.

ACTION: Notice of availability.

SUMMARY: In accordance with the Oil Pollution Act of 1990 (OPA), the National Environmental Policy Act (NEPA), the Deepwater Horizon Oil Spill Final Programmatic Damage Assessment and Restoration Plan and Final Programmatic Environmental Impact Statement (Final PDARP/PEIS), Record of Decision, and Consent Decree, the Federal and State natural resource trustee agencies for the Mississippi Trustee Implementation Group (Mississippi TIG) have prepared a Mississippi Trustee Implementation Group 2019 Final Supplemental Restoration Plan: Grand Bay Land Acquisition and Habitat Management (SRP) and Finding of No Significant Impact (FONSI). The SRP approves an additional $10,000,000 in funds for additional land acquisition and habitat management within the Grand Bay Land Acquisition and Habitat Management project (Grand Bay Project) area. The Mississippi TIG originally evaluated and selected the Grand Bay Project as part of the Mississippi Trustee Implementation Group 2016-2017 Restoration Plan/Environmental Assessment (2016-2017 RP/EA). Additional land acquisition and habitat management for the Grand Bay Project will continue the process of conserving and restoring wetlands, coastal, and nearshore habitats injured as a result of the Deepwater Horizon oil spill. The purpose of this notice is to inform the public of the availability of the final SRP and FONSI.

ADDRESSES: Obtaining Documents: You may download the SRP and FONSI from either of the following websites:

• http://www.gulfspillrestoration.noaa.gov

• https://www.doi.gov/deepwaterhorizon/adminrecord

Alternatively, you may request a CD of the SRP and FONSI (see FOR FURTHER INFORMATION CONTACT).

FOR FURTHER INFORMATION CONTACT: Nanciann Regalado, via email at nanciann_regalado@fws.gov, via telephone at 678-296-6805, or via the Federal Relay Service at 800-877-8339.

SUPPLEMENTARY INFORMATION:

Introduction

Notice of availability of the draft SRP was published in the Federal Register on July 2, 2019 (84 FR 31618). The MS TIG provided the public 30 days to review and comment on the draft SRP. Comments submitted during that time were reviewed and addressed by the MS TIG before finalizing the SRP. Details are provided in the final SRP. Additional restoration planning for the Mississippi Restoration Area will continue.

Background

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest offshore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the Deepwater Horizon oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality (MDEQ);

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a Consent Decree resolving civil claims by the DWH oil spill trustees against BP Exploration and Production Inc. (BP) arising from the DWH oil spill: United States v. BPXP et al., Civ. No. 10-4536, centralized in MDL 2179, In re: Oil Spill by the Oil Rig “Deepwater Horizon” in the Gulf of Mexico, on April 20, 2010 (E.D. La.) (http://www.justice.gov/enrd/deepwater-horizon). Pursuant to that Consent Decree, restoration projects in Mississippi are now selected and implemented by the Mississippi TIG. The Mississippi TIG is composed of one State and four Federal Trustees: MDEQ, DOI, NOAA, USDA, and EPA.

Overview of the Mississippi TIG SRP

In the final SRP and FONSI, the MS TIG selected an additional $10 million in funding to support further acquisition and/or habitat management and project success monitoring within the project area of the Grand Bay Project originally selected in the 2016-2017 RP/EA. In that document, the MS TIG evaluated and selected several restoration projects from a reasonable range of alternatives. Projects selected for implementation included the Grand Bay Project. As described in Section 3.4 of the 2016-2017 RP/EA, the Mississippi TIG allocated $6 million to initiate the acquisition and to commence management in nearshore coastal and wetland habitats within the Grand Bay Project area, which includes the acquisition boundaries of the Grand Bay National Wildlife Refuge (Refuge), the Grand Bay National Estuarine Research Reserve (NERR), and the Grand Bay Savanna Coastal Preserve (Preserve). The final 2016-2017 RP/EA can be found at https://www.gulfspillrestoration.noaa.gov/2017/07/mississippi-trustee-implementation-group-releases-first-restoration-plan.

In accordance with NEPA, as part of the final SRP, the Trustees issued a FONSI. The FONSI is available in Appendix A of the final SRP.

Administrative Record

The documents comprising the Administrative Record for the SRP can be viewed electronically at https://www.doi.gov/deepwaterhorizon/adminrecord.

Authority

The authority for this action is the Oil Pollution Act of 1990 (33 U.S.C. 2701 et seq.) and its implementing Natural Resource Damage Assessment regulations found at 15 CFR part 990 and the National Environmental Policy Act of 1969 (42 U.S.C. 4321 et seq.).

Mary Josie Blanchard,
Director of Gulf of Mexico Restoration, Department of Interior.

[FR Doc. 2019-21802 Filed 10-4-19; 8:45 am]

BILLING CODE 4333-15-P